DEPARTMENT OF HOMELAND SECURITY

Bureau of Customs and Border Protection

Notice of Cancellation of Customs Broker Permit

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker local permits are canceled without prejudice.

Name | Permit No. | Issuing port
ABX Logistics USA Inc. | 055 | Great Falls.
GPS Customers House Brokerage Inc. | 28-03-W22 | San Francisco.
Allstates Customs Brokerage Inc. | 00-17-009 | Atlanta.
Su Mei-Hsia Sun | 28-01-NK1 | San Francisco.

Dated: February 13, 2004.
Jayson P. Ahern,
Assistant Commissioner, Office of Field Operations.

[FR Doc. 04-4013 Filed 2-23-04; 8:45 am]

BILLING CODE 4820-02-P